DEPARTMENT OF TRANSPORTATION

Coast Guard

33 CFR Part 100

[CGD07-01-023]

RIN 2115-AE46

Special Local Regulations; Charleston Harbor, SC

AGENCY: Coast Guard, DOT

ACTION: Temporary final rule.

SUMMARY: Temporary special local regulations are being established for the start of the Charleston to Bermuda Race, Charleston Harbor, S. C. These regulations restrict the movement of non-participating vessels in the waters between Charleston Waterfront and Battle Park, to Castle Pinckney and the South Channel, then out the Charleston Harbor Channel. These regulations are needed to provide for the safety of life on navigable waters during the event.

DATES: This rule is effective from 12:30 p.m. to 4 p.m. on May 19, 2001.

ADDRESSES: Comments and material received from the public, as well as documents indicated in this preamble as being available in the docket, are part of [CGD07-01-023] and are available for inspection or copying at Coast Guard Group Charleston, 196 Tradd St, Charleston S. C. 29401 between 7:30 a.m. and 4 p.m., Monday through Friday, except Federal holidays.

FOR FURTHER INFORMATION CONTACT: QMC David Jersey, Coast Guard Group Charleston at 843 724 7600 x252.

SUPPLEMENTARY INFORMATION:

Regulatory Information

We did not publish a notice of proposed rulemaking (NPRM) for this regulation. Under 5 U.S.C. 553(b)(B), the Coast Guard finds that good cause exists for not publishing an NPRM. Publishing an NPRM would be contrary to national safety interests since immediate action is needed to minimize potential danger to the public because there will be numerous spectator craft in the area.

Background and Purpose

This rule is required to provide for the safety of life on navigable waters because of the inherent danger associated with a large number of spectator craft expected to view the start of the Charleston to Bermuda Race, in Charleston Harbor, S.C. This rule prohibits non-participating vessels from entering the designated regulated area in Charleston Harbor during the event.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, l979). The regulation will only be in effect for 3.5 hours.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule may affect the following entities, some of which may be small entities: the owners or operators of vessels intending to transit or anchor in a portion of Charleston Harbor and Approaches from 12:30 p.m. to 4 p.m. on May 19, 2001. The Coast Guard certifies under 5 U.S.C. 605(b) that this rule will not have a significant economic impact on a substantial number of small entities because the rule will be in effect for only 3.5 hours.

Assistance for Small Entities

Under section 213(a) of the Small Business Regulatory Enforcement Fairness Act of 1996 (Pubic Law 104-121), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that order.

Unfunded Mandates Reform Act

The Unfunded Mandates Reform Act of 1995 (2 U.S.C. 1531—1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this action and has determined pursuant to Figure 2-1, paragraph 34(h) of Commandant Instruction M16475.1C, that this action is categorically excluded from further environmental documentation.

List of Subjects in 33 CFR Part 100

Marine safety, Navigation (water), Reporting and record keeping requirements, Waterways.

For the reasons discussed in the preamble, the Coast Guard amends 33 CFR part 100 as follows:

PART 100—[MARINE EVENTS]

1. The authority citation for Part 100 continues to read as follows:

Authority: 33 U.S.C. 1233 through 1236, 49 CFR 1.46, and 33 CFR 100.35.

2. Add temporary § 100.35T-07-023 to read as follows:

§ 100.35T-07-023 Charleston to Bermuda Race, Charleston Harbor, Charleston SC.

(a) Regulated Area: An area in Charleston Harbor, Charleston, S. C. starting from: A line drawn from the point at Customhouse Reach in position 32-47.15N 079-55.18W, 0.18nm west to 32-47.15N 079-55.40W; then south 0.68 nm to the gate formed by Degaussing Range West Platform Light (light list number 2670) (32-46.47N 079-55.37W) and Degaussing Range East Platform Light (light list number 2665 (32-46.50N 079-55.00W); then to the gate formed by Battery Point Lighted Buoy BP (light list number 2650) (32-45.61N 079-55.08W) and Cooper River Lighted Buoy 32 (light list number 2655) (32-46.47N 079-55.10W); then to that portion of South Channel to where it intersects Charleston Harbor Channel Mt. Pleasant Range; then southeasterly out Charleston Harbor Channel to the gate formed by Charleston Harbor Channel Lighted Buoy 13 (light list number 2415) (32-43.29N 079-48.73W) to Charleston Harbor Channel Lighted Buoy 14 (light list number 2420) (32-45.45N 079-48.63W).

All coordinates referenced use Datum: NAD 1983.

(b) Coast Guard Patrol Commander: The Coast Guard Patrol Commander is a commissioned, warrant, or petty officer of the Coast Guard who has been designated by Commanding Officer, Coast Guard Group Charleston SC.

(c) Special Local Regulations: Non-participant vessels are prohibited from entering the regulated area unless authorized by the Patrol Commander. Spectator craft may remain in the designated spectator area to be established by the event sponsor, The Charleston to Bermuda Race, Inc.

(d) Dates: This section becomes effective at 12:30 p.m. on May 19, 2001 and terminates at 4 p.m. May 19, 2001.

Dated: March 23, 2001.
G.W. Sutton,
Captain U.S. Coast Guard Commander, Seventh Coast Guard District, Acting.

[FR Doc. 01-9177 Filed 4-12-01; 8:45 am]

BILLING CODE 4910-15-U